DEPARTMENT OF AGRICULTURE

Agricultural Marketing Service

[Doc. No. AMS-NOP-11-0071; NOP-11-12]

Notice of Agricultural Management Assistance Organic Certification Cost-Share Program

AGENCY: Agricultural Marketing Service, USDA.

ACTION: Notice of Funds Availability: Inviting Applications from State Departments of Agriculture for the Agricultural Management Assistance Organic Certification Cost-Share Program.

SUMMARY: This Notice invites the following eligible States: Connecticut, Delaware, Hawaii, Maine, Maryland, Massachusetts, Nevada, New Hampshire, New Jersey, New York, Pennsylvania, Rhode Island, Utah, Vermont, West Virginia, and Wyoming, to submit an Application for Federal Assistance (Standard Form 424), and to enter into a Cooperative Agreement with the Agricultural Marketing Service (AMS) for the allocation of organic certification cost-share funds. The AMS has allocated $1.5 million for this organic certification cost-share program in Fiscal Year 2011. Funds are available to 16 designated States to provide cost-share assistance to organic crop and livestock producers certified under the USDA Organic Standards (7 CFR 205). Eligible States interested in obtaining cost-share funds for their organic producers must submit an Application for Federal Assistance via http://www.grants.gov and enter into a cooperative agreement with AMS for the allocation of funds.

DATES: Completed Applications for Federal Assistance and signed cooperative agreements must be received by the National Organic Program (NOP) no later than September 23, 2011.

ADDRESSES: Applications for Federal Assistance must be submitted via Grants.Gov. Paper applications will not be accepted. Instructions and additional information are available on the National Organic Program's Web site at http://www.ams.usda.gov/NOPCostSharing.

Signed cooperative agreements should be sent via express mail to Betsy Rakola, Agricultural Marketing Specialist, National Organic Program, USDA/AMS/NOP, Room 2640-South, Ag Stop 0268, 1400 Independence Avenue, SW., Washington, DC 20250-0268.

FOR FURTHER INFORMATION CONTACT: Betsy Rakola, Agricultural Marketing Specialist, National Organic Program, USDA/AMS/NOP, Room 2640-South, Ag Stop 0268, 1400 Independence Avenue, SW., Washington, DC 20250-0268; Telephone: (202) 720-3252. E-mail: Betsy.Rakola@ams.usda.gov.

SUPPLEMENTARY INFORMATION: This Organic Certification Cost-Share Program is part of the Agricultural Management Assistance (AMA) Program authorized under the Federal Crop Insurance Act (FCIA), as amended (7 U.S.C. 1524). Under the applicable FCIA provisions, the Department is authorized to provide cost-share assistance to organic producers in the States of Connecticut, Delaware, Hawaii, Maine, Maryland, Massachusetts, Nevada, New Hampshire, New Jersey, New York, Pennsylvania, Rhode Island, Utah, Vermont, West Virginia, and Wyoming. The AMS has allocated $1.5 million for this organic certification cost-share program in Fiscal Year 2011. This program provides financial assistance to organic producers certified under the USDA Organic Regulations (7 CFR part 205), which were authorized under the Organic Foods Production Act of 1990, as amended (7 U.S.C. 6501 et seq.). This program is in addition to and separate from the National Organic Certification Cost-Share Program, which is also administered by AMS and is open to all States and U.S. Territories.

To participate in the program, eligible States, through their State Departments of Agriculture, must complete an Application for Federal Assistance (Standard Form 424) and enter into a written cooperative agreement with AMS. State Department of Agriculture refers to agencies, commissions, or departments of State government responsible for implementing regulation, policy or programs on agriculture within their State. The program will provide cost-share assistance, through participating States, to organic crop and livestock producers receiving certification or incurring expenses for the continuation of certification by a USDA accredited certifying agent during the period of October 1, 2011, through September 30, 2012. The Department has determined that payments will be limited to 75% (seventy-five percent) of an individual producer's certification costs, up to a maximum of $750 (seven-hundred and fifty dollars).

To receive cost-share assistance, organic producers should contact their State agencies. Procedures for applying are outlined in the cost share policies and procedures at http://1.usa.gov/OrganicCostShare. The total amount of cost-share payments provided to any eligible producer under all AMA programs cannot exceed $50,000.

How to Submit Applications: To receive fund allocations to provide cost-share assistance, a State Department of Agriculture must complete an Application for Federal Assistance (Standard Form 424), and enter into a written cooperative agreement with AMS. Interested States must submit the Application for Federal Assistance (Standard Form 424) electronically via Grants.gov, the Federal grants Web site, at http://www.grants.gov. For information on how to use Grants.Gov, please consult http://www.grants.gov/GetRegistered. Applications must be filed by Friday, September 23, 2011. Cooperative agreements will be sent by the AMS to participating State Departments of Agriculture via express mail. The cooperative agreement must have the original signature of an official who has authority to apply for Federal assistance. The signed cooperative agreement must be sent by express mail or courier service and received by the NOP at the address above by September 23, 2011.

The AMA Organic Certification Cost-Share Program is listed in the “Catalog of Federal Domestic Assistance” under number 10.171. Subject agencies must adhere to Title VI of the Civil Rights Act of 1964, which bars discrimination in all Federally-assisted programs. Additional information on the AMA Organic Certification Cost-Share Program can be found on the NOP's Web site at http://www.ams.usda.gov/NOPCostSharing.

Authority: 7 U.S.C. 1524.

Dated: August 29, 2011.
Ellen King,
Acting Administrator, Agricultural Marketing Service.

[FR Doc. 2011-22613 Filed 9-2-11; 8:45 am]

BILLING CODE 3410-02-P